DEPARTMENT OF AGRICULTURE

Agricultural Marketing Service

7 CFR Part 991

[Docket No. AO-F&V-991-4; FV03-991-01]

Hops Produced in WA, OR, ID and CA; Proposed Marketing Agreement and Order No. 991; Termination of Proceeding on Proposed Marketing Agreement and Order

AGENCY: Agricultural Marketing Service, USDA.

ACTION: Termination of proceeding.

SUMMARY: This action terminates the proceeding to establish a marketing agreement and order for hops grown in Washington, Oregon, Idaho and California. The U.S. Department of Agriculture (USDA) held a public hearing in October 2003 to receive evidence on a program proposed by the Hop Marketing Order Proponent Committee (Proponent Committee), a group of industry members in support of an order. The proposed program would have authorized volume control measures in the form of producer allotments to regulate the marketing of alpha acid in hops in the production area. In addition, the proposed order would have allowed for reserve pooling of excess production of alpha acid and would have provided for production research, marketing research and development projects to promote the marketing, distribution and consumption or efficient production of hops. After the hearing sessions, USDA received numerous comments, briefs and additional arguments expressing widely divergent views on the promulgation of a marketing order for hops. After careful consideration of the entire rulemaking record, USDA is unable to conclude that the proposal currently under consideration would tend to effectuate the declared policy of the Agricultural Marketing Agreement Act of 1937, as amended (7 U.S.C. 601-674), hereinafter referred to as the “Act.” Accordingly, USDA is hereby terminating the proceeding.

DATE: This termination is made on June 23, 2005.

FOR FURTHER INFORMATION CONTACT: Barry Broadbent, Marketing Specialist, Marketing Order Administration Branch, Fruit and Vegetable Programs, AMS, USDA, Northwest Marketing Field Office, 1220 SW., Third Avenue, Suite 385, Portland, Oregon 97204; Telephone (503) 326-2724 or Fax (503) 326-7440; or Kathleen M. Finn, Marketing Order Administration Branch, Fruit and Vegetable Programs, AMS, USDA, 1400 Independence Avenue SW., Stop 0237, Washington, DC 20250-0237; Telephone: (202) 720-2491, Fax: (202) 720-8938.

Small businesses may request information on this proceeding by contacting Jay Guerber, Marketing Order Administration Branch, Fruit and Vegetable Programs, AMS, USDA, 1400 Independence Avenue SW., Stop 0237, Washington, DC 20250-0237; Telephone: (202) 720-2491, Fax: (202) 720-8938.

SUPPLEMENTARY INFORMATION: Prior documents in this proceeding: Notice of hearing issued on July 23, 2003, and published in the July 28, 2003, issue of the Federal Register (68 FR 44244); notice of postponement of public hearing on proposed marketing agreement and order issued on August 8, 2003, and published in the August 14, 2003, issue of the Federal Register (68 FR 48575); notice of rescheduling of public hearing on proposed marketing agreement and order issued on September 3, 2003, and published in the September 8, 2003, issue of the Federal Register (68 FR 52860); and opportunity to file additional argument on representative period for proposed marketing agreement and order issued on February 16, 2005, and published in the February 24, 2005, issue of the Federal Register (70 FR 9000).

This action is governed by the provisions of sections 556 and 557 of Title 5 of the United States Code and, therefore, is excluded from the requirements of Executive Order 12866.

This administrative action is issued pursuant to the Act and the applicable rules of practice and procedure governing the formulation of marketing agreements and orders (7 CFR part 900).

Preliminary Statement

In October 2002, the Proponent Committee requested that USDA hold a public hearing to consider a proposed marketing agreement and order for hops grown in Washington, Oregon, Idaho and California. The proposed program would have authorized volume control measures in the form of producer allotments to regulate the marketing of alpha acids in hops in the production area. The proposed order would also have allowed for reserve pooling of excess production of alpha acid and would have provided for production research, and marketing research and development projects to promote the marketing, distribution and consumption or efficient production of hops.

A notice of hearing was published in the Federal Register on July 28, 2003. A notice of postponement of public hearing on proposed marketing agreement and order was published in the Federal Register on August 14, 2003. A notice of rescheduling of public hearing on proposed marketing agreement and order was published in the Federal Register on September 8, 2003.

A public hearing on the proposed marketing agreement and order for hops produced in Washington, Oregon, Idaho, and California was held October 15 through 17, 2003, in Portland, Oregon, and October 20 through 24, 2003, in Yakima, Washington. At the conclusion of the hearing, the Administrative Law Judge fixed January 30, 2004, as the final date for interested persons to file proposed findings and conclusions or written arguments and briefs based on the evidence received at the hearing. The Administrative Law Judge issued an order extending this deadline through February 18, 2004. A total of five briefs were received—one in support of the proposal and four in opposition.

A notice of opportunity to file additional argument on the representative period for a proposed marketing agreement and order was published in the Federal Register on February 24, 2005. Interested persons were to provide additional argument on two alternative representative base periods. Fourteen arguments were filed expressing widely divergent views.

Termination of Proceeding

USDA has carefully considered the entire rulemaking record, including the testimony and evidence presented at the hearing, the briefs filed following the hearing, and additional post hearing arguments. The record fails to demonstrate that there is a need for a hop marketing order, that such marketing order would have a positive economic impact on the industry, and that the benefits and costs associated with such marketing order could be allocated equitably.

After careful consideration of the entire rulemaking record, USDA is unable to conclude that the proposal currently under consideration would tend to effectuate the declared policy of the Agricultural Marketing Agreement Act of 1937, as amended (7 U.S.C. 601-674), hereinafter referred to as the “Act.” Accordingly, USDA is hereby terminating the proceeding.

List of Subjects in 7 CFR Part 991

Hops, Marketing agreements, Reporting and recordkeeping requirements.

Authority: 7 U.S.C. 601-674.

Dated: June 16, 2005.
Kenneth C. Clayton,
Acting Administrator, Agricultural Marketing Service.

[FR Doc. 05-12258 Filed 6-20-05; 8:45 am]

BILLING CODE 3410-02-P